ENVIRONMENTAL PROTECTION AGENCY

[ER-FRL-6611-6]

Environmental Impact Statements and Regulations; Availability of EPA Comments

Availability of EPA comments prepared pursuant to the Environmental Review Process (ERP), under Section 309 of the Clean Air Act and section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. D-AFS-K65359-00 Rating EC2, Northern Sierra Amendment to the Toiyabe Land and Resource Management, To Unify and Revise Management Direction, Humboldt-Toiyabe National Forest, Carson Ranger District, Stanislaus National Forest, Lake Tahoe Basin Management Unit, Douglas and Washoe Counties, NV and Alpine and Toulomne Counties, CA.

Summary: EPA expressed concerns related to purpose and need and the timing of the plan amendment in advance of the 15 year deadline for Forest Plan revision set for June 23, 2001. Specific concerns were expressed regarding the lack of standards and guidelines promoting road decommissioning pursuant to the Chief's Natural Resource Agenda and the Clean Water Action Plan.

ERP No. D-AFS-L65362-ID Rating EC2, West Mountain North Project, Timber Harvest, Road Construction and Reconstruction), Boise National Forest, Cascade Ranger District, Valley County, ID.

Summary: EPA expressed environmental concerns over water and air quality. EPA requested that further information on these concerns be provided in the final EIS.

ERP No. D-COE-E30041-NC Rating EC2, Dare County Beaches (Bodie Island Portion) Hurricane Wave Protection and Beach Erosion Control, The towns of Nags Head, Kill Devil Hills, Kitty Hawk, Dare County, NC.

Summary: EPA expressed environmental concerns due to the open-ended loss of biotic stability along the project shoreline which was not mitigated by the incremental gain in sea turtle nesting habitat.

ERP No. D-FRC-F03008-00 Rating EO2, Guardian Pipeline Project, Proposal to Construct and Operate an Interstate Natural Gas Pipeline that would extend from Joliet (Will County), IL and Ixonia (Jefferson County), WI.

Summary: EIS raised objections and identified several issues that were not adequately addressed in the Draft EIS, including the cumulative impacts analysis, mitigation measures, and the definition of the project purpose and need.

ERP No. D-IBR-K29000-AZ Rating EC2, Central Arizona Project (CAP), Allocation of Water Supply and Long-Term Contract Execution, Maricopa, Pinal and Pima Counties, AZ.

Summary: EPA expressed concern that there was minimal discussion and commitment to available tools for enhancing water management flexibility/reliability and providing long-term sustainable use of the allocated water. EPA also had concerns regarding the potential impacts to soil salinity, land subsidence, sustainable groundwater yields, and the specifics of the long-term water supply contracts. EPA did express strong support for the underlying goal of a long-term sustainable water supply by achieving a balance between water use/demand and available water resources EPA also urged Reclamation to take a role beyond just mere allocation of CAP water and to promote efficient, equitable and sustainable use of the allocated water as part of this Federal action.

Final EISs

ERP No. F-AFS-J65315-UT, Monroe Mountain Ecosystem Restoration Project, Implementation, Fishlake National Forest, Richfield Ranger District, Sevier and Piute Counties, UT.

Summary: EPA has no objection to the proposed action, as this document adequately responded to EPA's previous comments on the draft EIS.

ERP No. F-AFS-L65322-AK, Luck Lake Timber Sales Project, Implementation, Tongass National Forest, Thorne Bay Ranger District, Prince of Wales Island, AK.

Summary: No formal comment letter was sent to the preparing agency.

ERP No. F-AFS-L65356-ID, Box Canyon Timber Sale, Vegetative Management, Implementation, Palisades Ranger District, Caribou-Targhee National Forest, Bonneville County, ID.

Summary: No formal comment letter was sent to the preparing agency.

ERP No. F-FHW-G40155-TX, TX-45 Highway Project, Extending from Anderson Mill Road just west of US 183 to Farm-to-Market Road 685 (FM-685) east of IH-35, Funding, Williamson and Travis Counties, TX.

Summary: EPA has no objection to the action as proposed.

ERP No. F-NPS-J26002-MT, Lake McDonald/Park Headquarters Wastewater Treatment System Rehabilitation, Implementation, COE Section 404 Permit, Glacier National Park, A Portion of Waterton-Glacier International Peace Park, Flathead and Glacier Counties, MT.

Summary: EPA supports the preferred alternatives, but recommends that the site location of the ultimate wastewater treatment plant sludge disposal be evaluated and established. The information is needed to fully assess and mitigate all potential environmental impacts of the management actions.

ERP No. F-SFW-L65334-WA, Simpson Washington Timberlands Forest Management and Timber Harvesting Project, Proposed Issuing of a Multiple Species Incidental Take Permit, Mason, Thurston and Gray Harbor Counties, WA.

Summary: No formal comment letter was sent to the preparing agency.

Dated: October 3, 2000.
Joseph C. Montgomery,
Director, NEPA, Office of Federal Activities.

[FR Doc. 00-25788 Filed 10-5-00; 8:45 am]

BILLING CODE 6560-50-P